ENVIRONMENTAL PROTECTION AGENCY

[FRL-7505-8]

Notice of Proposed Prospective Purchaser Agreement Under the Comprehensive Environmental Response, Compensation and Liability Act of 1980, 42 U.S.C. 9601, et seq., as Amended (CERCLA), Des Moines TCE Superfund Site, Des Moines, IA, Docket No. CERCLA-07-2003-0156

AGENCY: Environmental Protection Agency.

ACTION: Notice of proposed prospective purchaser agreement, Des Moines TCE Superfund Site, Des Moines, Iowa.

SUMMARY: Notice is hereby given that a proposed prospective purchaser agreement regarding the Des Moines TCE Superfund Site (Site) located in Des Moines, Iowa, was signed by the United States Environmental Protection Agency (EPA) on March 17, 2003, and signed by the United States Department of Justice (DOJ) on May 8, 2003.

DATES: EPA will receive until July 3, 2003, comments relating to the proposed prospective purchaser agreement.

ADDRESSES: Comments should be addressed to Daniel J. Shiel, Senior Assistant Regional Counsel, United States Environmental Protection Agency, Region VII, 901 N. 5th Street, Kansas City, Kansas 66101 and should refer to the Des Moines TCE Superfund Site Prospective Purchaser Agreement, Docket No. CERCLA-07-2003-0156.

The proposed agreement may be examined or obtained in person or by mail from Daniel J. Shiel, United States Environmental Protection Agency, Region VII, 901 N. 5th Street, Kansas City, KS 66101, (913) 551-7278.

SUPPLEMENTARY INFORMATION: The Site encompasses approximately 200 acres, which is located in the south central portion of the city of Des Moines, Polk County, Iowa, adjacent to the Racoon River. The Site includes property owned by Dico, Inc. (Dico). The groundwater beneath Dico's property is heavily contaminated with trichloroethylene (TCE) and other volatile organic compounds (VOCs). Surface soil on much of Dico's property is contaminated with VOCs, pesticides, herbicides and metals. Interior building surfaces contain pesticide-laden dust, and building insulation materials include polychlorinated biphenyls (PCBs).

The City of Des Moines (the City) plans to acquire a permanent roadway easement over approximately three (3) acres of Dico's property as right-of-way for the Martin Luther King Jr. Parkway Project. The City will reserve to Dico certain specified access rights to operate and maintain existing CERCLA response actions.

As of the date the City acquires a permanent roadway easement, the United States covenants not to sue or take any other civil or administrative action against the City for any and all civil liability for injunctive relief or reimbursement of response costs pursuant to section 106 or 107(a) of CERCLA, 42 U.S.C. 9606 or 9607(a) with respect to the existing contamination.

In consideration of the United States' Covenant Not to Sue, the City hereby covenants not to sue and not to assert any claims or causes of action against the United States with respect to the Site or this Agreement.

The City will provide EPA, as of the date it acquires a permanent roadway easement, an irrevocable right of access at all reasonable times to any property to which EPA determines access is required for the implementation of response actions at the Site, to the extent of the City's interest in the property, for the purposes of performing and overseeing response actions at the Site under federal law.

With regard to claims for contribution against the City, the City is entitled to protection from contribution actions or claims as provided by CERCLA section 113(f)(2), 42 U.S.C. 9613(f)(2) for matters addressed in this agreement.

If the City fails to comply with the terms of this agreement, it shall be liable for all litigation and other enforcement costs incurred by the United States to enforce this Agreement or otherwise obtain compliance.

Dated: May 16, 2003.
James B. Guilliford,
Regional Administrator, Region VII.

[FR Doc. 03-13566 Filed 6-2-03; 8:45 am]

BILLING CODE 6560-50-P